CORPORATION FOR NATIONAL AND COMMUNITY SERVICE

Information Collection; Submission for OMB Review, Comment Request

AGENCY: Corporation for National and Community Service.

ACTION: Notice.

SUMMARY: The Corporation for National and Community Service (hereinafter the “Corporation”), has submitted a public information collection request (ICR) entitled Forbearance Request for National Service Form, to the Office of Management and Budget (OMB) for review and approval in accordance with the Paperwork Reduction Act of 1995, Public Law 104-13, (44 U.S.C. Chapter 35). Copies of this ICR, with applicable supporting documentation, may be obtained by calling the Corporation for National and Community Service, Bruce Kellogg at 202-606-6954. Individuals who use a telecommunications device for the deaf (TTY-TDD) may call (202) 565-2799 between 8:30 a.m. and 5 p.m. eastern time, Monday through Friday.

ADDRESSES: Comments may be submitted, identified by the title of the information collection activity, to the Office of Information and Regulatory Affairs, Attn: Ms. Katherine Astrich, OMB Desk Officer for the Corporation for National and Community Service, by any of the following two methods within 30 days from the date of publication in this Federal Register:

(1) By fax to: (202) 395-6974, Attention: Ms. Katherine Astrich, OMB Desk Officer for the Corporation for National and Community Service; and

(2) Electronically by e-mail to: Katherine_T._Astrich@omb.eop.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Comments

A 60-day public comment Notice was published in the Federal Register on March 27, 2008. This comment period ended May 25, 2008. No public comments were received.

Description: Currently, the Corporation is soliciting comments concerning the proposed renewal of its Forbearance Request for National Service Form. This form or the electronic equivalent are used by AmeriCorps members to request a postponement, during their term of service, of their obligation to make payment on qualified student loans while they are earning a minimal living allowance in their national service position. The form provides proof that the borrower is serving in an approved national service position, thereby meeting the criteria for the mandatory forbearance based on national service. The form has a “Manual” version generated from the online request when the institution is not registered online, which provides the AmeriCorps member's electronic signature. The non-electronic version provides a space for the member and the authorized program official to sign.

Type of Review: Renewal.

Agency: Corporation for National and Community Service.

Title: Forbearance Request for National Service Form.

OMB Number: 3045-0030.

Agency Number: None.

Affected Public: Individuals who have enrolled in a term of national service who wish to postpone loan payments on qualified loans while they serve.

Total Respondents: 11,000 responses annually, using the paper form.

Frequency: Some members do not have any qualified student loans while others have several. Currently, we estimate about half of the forbearance requests are processed electronically. The Corporation expects the use of paper forms to decrease over the next few years.

Average Time per Response: Total of 10 minutes (9 minutes for the AmeriCorps member's section (non-electronic version) and 1 minute for certification).

Estimated Total Burden Hours: 1,833 hours.

Total Burden Cost (capital/startup): None.

Total Burden Cost (operating/maintenance): None.

Dated: June 11, 2008.
Maggie Taylor-Coates,
Manager (Acting), National Service Trust.

[FR Doc. E8-13867 Filed 6-18-08; 8:45 am]

BILLING CODE 6050-$$-P